FEDERAL COMMUNICATIONS COMMISSION

[DA 00-145 and DA 00-191]

Wireless Telecommunications Bureau Seeks Comment on SBC Communications Inc.'s (SBC) and Nextel Communications, Inc.'s (Nextel) Petitions Regarding PCS C and F Block Spectrum

AGENCY: Federal Communications Commission.

ACTION: Notice.

SUMMARY: The Wireless Telecommunication Bureau (Bureau) seeks comment on SBC's request for waiver of the eligibility requirements regarding PCS C and F block spectrum. The Bureau also seeks comment on Nextel's petition for expedited rule making or waiver of the Commission's rules regarding PCS C and F block eligibility for licenses and license configuration.

DATES: Comments are due February 14, 2000, and reply comments are due February 22, 2000.

ADDRESSES: Comments should be filed with the Office of the Secretary, Federal Communications Commission, TW B204, 445 12th St. SW., Washington, DC 20554. Comments also should be provided to Amy Zoslov, Chief, Auctions and Industry Analysis Division, Room # 4-A624, Wireless Telecommunications Bureau, Federal Communications Commission, 445 12th St. SW Washington, DC 20554.

FOR FURTHER INFORMATION CONTACT: Leora Hochstein of the Auctions and Industry Analysis Division at (202) 418-0660.

SUPPLEMENTARY INFORMATION: This is a summary of two Public Notices, DA 00-145 released January 31, 2000, and DA 00-191 released February 3, 2000. The complete text of the public notices, including all attachments, is available for inspection and copying during normal business hours in the FCC Reference Center (Room CY A257), 445 12th Street, SW., Washington, DC. It may also be purchased from the Commission's copy contractor, International Transcription Services, Inc. (ITS, Inc.) 1231 20th Street, NW, Washington, DC 20036, (202) 857-3800. It is also available on the Commission's website at http://www.fcc.gov.

1. SBC Communications Inc. (“SBC”) has filed a request for waiver of the eligibility requirements in § 24.709 of the Commission's rules. Section 24.709 of the Commission's rules restricts the eligibility for C and F block licenses to entities with total assets and gross revenues below specified levels. SBC requests a waiver under § 1.925 of the Commission's rules to allow companies other than such entities to participate in the upcoming C and F block auction.

2. SBC argues that granting its waiver request and allowing it to participate in the auction would serve the public interest by speeding the delivery of wireless services to the public and enhancing competition in numerous market areas.

3. Nextel Communications, Inc. (“Nextel”) has filed a petition requesting expedited rulemaking under § 1.401, or in the alternative, waiver of the Commission's rules under §§ 1.3 and 1.925. Nextel seeks modification or waiver of the Commission's eligibility and bidding rules with respect to PCS C and F block spectrum. Nextel requests that the Commission allow companies other than entities with total assets and gross revenues below specified levels to participate in the upcoming C and F block auction. In addition, Nextel urges the Commission to auction one block of spectrum at the end of May 2000 on a “bulk bidding” basis. Under this proposal the Commission would reconfigure the 30 MHz C block licenses into separate 20 MHz and 10 MHz authorizations and offer the new 20 MHz and the available 15 MHz PCS licenses on a bulk bid basis, subject to expedited build-out requirements. Further, the new 10 MHz C block and F block licenses would be auctioned on a market-by-market basis.

4. Nextel argues that adopting its proposed rule modifications, or granting its waiver request, would serve the public interest by speeding the delivery of wireless services to the public, particularly to rural and underserved areas, and enhancing competition in wireless services.

5. The Public Notice, DA 00-145, seeking comment on SBC's request for waiver of the eligibility requirements for PCS C and F block spectrum stated that comments were due on February 10, 2000 and reply comments were due on February 15, 2000. In light of Nextel's filing, we broaden our request to include comments addressing any issues raised by SBC and/or Nextel. Further, we extend the deadline for filing comments to SBC's waiver request and/or Nextel's petition to February 14, 2000 for comments and February 22, 2000 for reply comments.

6. Commenters should address the sufficiency of the showings made by SBC and/or Nextel in light of the requirements of 47 CFR 1.925 and any other public interest considerations. All comments should reference DA 00-191.

7. This proceeding has been designated as a “permit-but-disclose” proceeding in accordance with the Commission's ex parte rules. 47 CFR 1.1200(a), 1.1206. Persons making oral ex parte presentations are reminded that memoranda summarizing the presentations must contain summaries of the substance of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

8. Both SBC's waiver request and Nextel's petition are available for public inspection and copying in the Reference Center, Room CY A257, 445 12th St., SW., Washington, DC 20554. Copies of the Public Notices and its petition are also available from ITS at 1231 20th St. NW., Washington, DC 20036, or by calling (202) 857-3800.

Federal Communications Commission.
Louis J. Sigálos,
Deputy Chief, Auctions & Industry Analysis Division.

[FR Doc. 00-3921 Filed 2-17-00; 8:45 am]

BILLING CODE 6712-01-P